DEPARTMENT OF TRANSPORTATION

Office of the Secretary

Certificates of Public Convenience; Applications

Notice of Applications for Certificates of Public Convenience and Necessity and Foreign Air Carrier Permits Filed Under Subpart Q during the Week Ending September 6, 2000. The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7901.

Date Filed: September 6, 2000.

Due Date for Answers, Conforming Applications, or Motion to Modify Scope: September 27, 2000.

Description: Application of Air Europa Lineas Aereas, S.A.U. pursuant to 49 U.S.C. Section 41301 and Subpart Q, applies for renewal and amendment of its foreign air carrier permit to engage in charter foreign air transportation of persons and property between any point or points in Spain and any point or points in the United States.

Dorothy Y. Beard,
Federal Register Liaison.

[FR Doc. 00-24056 Filed 9-18-00; 8:45 am]

BILLING CODE 4910-62-P